DEPARTMENT OF AGRICULTURE

Submission for OMB Review; Comment Request

August 15, 2017.

The Department of Agriculture has submitted the following information collection requirement(s) to OMB for review and clearance under the Paperwork Reduction Act of 1995, Public Law 104-13. Comments are requested regarding (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 18, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Scanner Capability Assessment of SNAP-Authorized Small Retailers (SCANR) Study.

OMB Control Number: 0584—NEW.

Summary of Collection: The SCANR Study will provide FNS with an understanding of the extent to which small retailers participating in the Supplemental Nutrition Assistance Program (SNAP) are able to meet Section 4002 of the Agricultural Act of 2014 (2014 Farm Bill) requirement that all authorized SNAP retailers use scanning technologies at the point of sale (POS) to redeem SNAP benefits. Understanding the number of small retailers that lack scanning systems, the costs of adopting and maintaining scanning systems, and the barriers small retailers face in adopting the technology are key to informing rulemaking for the 2014 Farm Bill requirement.

Need and Use of the Information: This study will result in a comprehensive description of the scanner capability of small SNAP-authorized retailers that will provide FNS with information to inform rulemaking for the 2014 Farm Bill requirement. Cost estimates from the industry interviews and follow-up interviews with retailers and data from secondary sources will be used to estimate store-level costs for adopting scanning systems with different levels of functionality. The cost estimates will account for all costs associated with the purchase, installation, and maintenance of scanning systems. Using the store-level costs and data from the SCANR Survey on the number of small SNAP-authorized retailers without scanning systems, the study will also include the total cost estimate for all small SNAP-authorized retailers to comply with the 2014 Farm Bill requirements. Finally, the study will include a descriptive assessment of the technological and economic barriers small SNAP retailers face in adopting and using scanning systems.

Description of Respondents: Business-for-profit.

Number of Respondents: 1,443.

Frequency of Responses: Reporting: Annually.

Total Burden Hours: 370.

Ruth Brown,
Departmental Information Collection Clearance Officer.

[FR Doc. 2017-17472 Filed 8-17-17; 8:45 am]

BILLING CODE 3410-30-P